DEPARTMENT OF JUSTICE

Notice of Lodging of Consent Decree Pursuant to the Clean Water Act

In accordance with Department policy, 28 CFR 50.7, notice is hereby given that a consent decree in United States c. Wilcox, Civil Action No. 4:99CV00806 WRW (E.D. Ark.), was lodged with the United States District Court for the Eastern District of Arkansas on December 18, 2002.

The proposed consent decree would resolve the United States' allegations in the above-referenced enforcement action that Defendants violated sections 301 and 404 of the Clean Water Act, 33 U.S.C. 1311 and 1344, by unlawfully discharging pollutants into waters of the United States at four separate sites in Pulaski County, Arkansas.

The proposed consent decree would require Defendants to: (1) Pay a $100,000 civil penalty; (2) restore approximately 50 acres of wetlands; and (3) provide approximately 55 acres of mitigation.

The Department of Justice will accept written comments relating to the proposed consent decree for thirty (30) days from the date of publication of this notice. Comments should be addressed to the Assistant Attorney General, Environment and National Resources Division, U.S. Department of Justice, Attention: Wendy L. Blake, Environment Defense Section, PO Box 23986, Washington, DC 20026-3986, and should refer to United States v. Wilcox, DJ Reference No. 90-5-1-4-05291.

The proposed consent decree may be examined at the Clerk's Office of the United States District Court for the Eastern District of Arkansas, 600 W. Capitol Ave., Suite 402, Littl Rock Arkansas.

Mary F. Edgar
Assistant Chief, Environmental Defense Section, Environment and Natural Resources Division, United States Department of Justice.

[FR Doc. 03-898 Filed 1-15-03; 8:45 am]

BILLING CODE 4410-15-M